FEDERAL RESERVE SYSTEM

Notice of Proposals to Engage in Permissible Nonbanking Activities or to Acquire Companies that are Engaged in Permissible Nonbanking Activities; Correction

This notice corrects a notice (FR Doc. 04-20802) published on page 55632 of the issue for Wednesday, September 15, 2004.

Under the Federal Reserve Bank of Cleveland heading, the entry for Park National Corporation, Newark, Ohio, is revised to read as follows:

1. Park National Corporation, Newark, Ohio; to acquire First Federal Bancorp, Inc., and thereby indirectly acquire First Federal Savings Bank of Eastern Ohio, both of Zanesville, Ohio, and thereby engage in operating a savings association, pursuant to section 225.28(b)(4)(ii) of Regulation Y. After the acquisition and subsequent bank merger, First Federal Savings Bank will convert to a national bank and Park National Corporation will operate the bank, pursuant to section 3 of the Bank Holding Company Act.

Comments on this application must be received by October 12, 2004.

Board of Governors of the Federal Reserve System, October 1, 2004.
Robert deV. Frierson,
Deputy Secretary of the Board.

[FR Doc. 04-22532 Filed 10-6-04; 8:45 am]

BILLING CODE 6210-01-S